ENVIRONMENTAL PROTECTION AGENCY

[FRL-6922-1]

Pesticide AudioTechnology Initiative Pilot Program Announcement

AGENCY: Environmental Protection Agency, (EPA).

ACTION: Notice.

SUMMARY: EPA invites interested individuals and organizations to participate in a new pesticide educational outreach pilot program entitled the Pesticide Audio Technology Initiative (PATI) which will develop educational kits for use in schools. The kits will be used to teach about the Consumer Labeling Initiative's (CLI) national educational campaign to “READ the Label First!” and the importance of safe and proper use, storage, and disposal of pesticides and household cleaners.

DATES: The PATI pilot program will begin January 25, 2001.

FOR FURTHER INFORMATION CONTACT: Drew Burnett (202) 564-0448, Burnett.andrew@epamail.epa.gov; or Amy Breedlove, (703) 308-9069, Breedlove.amy@ epamail.epa.gov; Office of Environmental Education (1704 A), Environmental Protection Agency, 1200 Pennsylvania Avenue, NW, Washington, DC 20460.

SUPPLEMENTARY INFORMATION: EPA has three primary objectives for the PATI pilot program: (1) To develop an effective educational program to teach school age children about the importance of first reading the label before any member of the household uses a pesticide or household cleaner; (2) promoting household safety to reduce children's exposure to potentially harmful chemicals; and (3) utilizing this pilot program as an opportunity to foster partnerships among EPA, State and Local Agencies, industry, and other potential stakeholders.

In March 1996, EPA announced the CLI after finding that label information is often difficult for the general public to read and understand. CLI is a voluntary, cooperative partnership among federal, state, and local government agencies, industry, and other interested groups working to improve product labels on indoor insecticides, outdoor pesticides, and household cleaners. CLI's educational goals are to foster pollution prevention and to improve consumer understanding of information on consumer products, particularly pesticides and cleaners. To bring these new labels to the attention of the public, the CLI developed a national consumer education campaign entitled “Read the Label FIRST!” ( RtLF!).

According to the American Association of Poison Control Centers, 36 children age 14 and under died from poisoning in 1997. More than 1 million children were victims of accidental poisoning. Introducing school age children to the RtLF! campaign and child safety issues via the PATI pilot program will allow them to become better-informed consumers and reduce their risks of accidental poisonings. In turn, they can carry this knowledge back to their families.

Currently, participants in the PATI pilot program include New Mexico's Family Career and Community Leaders of America and SpaceMark Talking Technologies, Inc. EPA is announcing this initiative to promote the broadest possible participation by interested individuals and organizations in order to develop an effective education program for school age children.

List of Subjects

Environmental protection; Environmental education, and outreach.

Dated: December 14, 2000.
Michael Baker,
Acting Director, Office of Environmental Education.

[FR Doc. 00-32844 Filed 12-22-00; 8:45 am]

BILLING CODE 6560-50-U